GENERAL SERVICES ADMINISTRATION

[Notice-PBS-2023-02; Docket No. 2023-0002; Sequence No. 18]

Notice of Intent To Prepare an Environmental Impact Statement for a New Federal Courthouse in Hartford, Connecticut

AGENCY: Public Buildings Service (PBS), U.S. General Services Administration (GSA).

ACTION: Notice.

SUMMARY: Pursuant to the requirements of the National Environmental Policy Act of 1969 (NEPA), GSA intends to prepare an EIS to analyze potential impacts from the proposed acquisition of a site in Hartford, CT, and the subsequent design and construction of a new Federal Courthouse. The building would be owned and managed by GSA and occupied by various Federal agency tenants, with the United States District Court for the District of Connecticut (the Court) serving as the largest tenant.

DATES: The public scoping meeting for the EIS will be held on Tuesday, June 6, 2023, from 5:30 to 7:30 p.m., Eastern Daylight Time. Written comments must be submitted to GSA by July 6, 2023.

ADDRESSES: The meeting will be held at Park Street Library at the Lyric Community Room, 603 Park Street, Hartford, CT 06106.

Written comments must be submitted using one of the following methods:

• In-Person: Submit written comments at the public scoping meeting via comment forms. There will be a stenographer to capture the comments voiced during the meeting.

• Email: Send an email to HartfordCourthouse@gsa.gov and reference “Hartford Courthouse EIS” in the subject line.

• Mail: Send direct written comments to: General Services Administration, Attention: Robert Herman, Project Manager, Abraham A. Ribicoff U.S. Courthouse, 450 Main Street, Suite 435, Hartford, CT 06103.

• Drop Box: Place written comments in the drop box at the main entrance of the Ribicoff Courthouse, at the following address: Abraham A. Ribicoff U.S. Courthouse, 450 Main Street, Hartford, CT 06103.

FOR FURTHER INFORMATION CONTACT: Robert Herman, Project Manager, GSA, at 413-244-9167.

SUPPLEMENTARY INFORMATION:

Background

The U.S. District Court for the District of Connecticut (the Court) currently operates at three existing Court facilities: the Abraham A. Ribicoff Federal Building and Courthouse (Ribicoff Courthouse) in Hartford, the Richard C. Lee U.S. Courthouse in New Haven, and the Brien McMahon Federal Building and U.S. Courthouse in Bridgeport. Long-range facilities planning for the Court and the Court Project Priorities process determined that Court operations in Hartford are projected to increase, and that Court headquarters would relocate from New Haven to Hartford.

The Ribicoff Courthouse, constructed in 1963, does not have the space, functionality, security, and building systems to meet the current and projected needs of the Court. The facility also presents numerous functional challenges related to circulation, prisoner movement, and operational and safety needs of the Judiciary.

GSA conducted feasibility studies to determine a suitable alternative that established the budget, site considerations, and basis for a project designed to provide long-term solutions to the Court's projected space requirements. The results from the feasibility studies led to GSA's decision to locate the Court's judicial operations at a new Federal Courthouse in Hartford, CT.

Alternatives Under Consideration

The EIS will consider three “action” alternatives and one “no action” alternative. Under the action alternatives, GSA would acquire a site of at least two acres of land in Hartford, CT for the design and construction of a new Federal Courthouse. The no action alternative assumes that site acquisition and subsequent design and construction of a new Federal Courthouse would not occur. The Judiciary would continue to operate under current conditions at the Ribicoff Courthouse, and at the courthouses in New Haven and Bridgeport.

A new Federal Courthouse would have the following features:

• Total building gross square footage of approximately 281,000;

• 11 courtrooms and 18 Judge chambers;

• Offices for various Federal agency tenants; and

• 66 secure parking spaces.

GSA has identified three potential sites for the project, each corresponding to an action alternative (listed north to south):

• Woodland Site—encompasses one land parcel and is 10.10 acres. The property lies in Hartford's Asylum Hill neighborhood, a block south of Saint Francis Hospital. It is bounded by Asylum Ave. to the north, the North Branch of Park River to the west, healthcare-related buildings along its southern perimeter, and Woodland St. to the east. It is currently utilized as a State of Connecticut office building.

• Allyn Site—encompasses 10 land parcels and is 2.19 acres. The property lies downtown, two blocks north of Bushnell Park. It is bounded by Church St. to the north, High St. to the west, Allyn St. to the south, and mixed-use buildings along its eastern perimeter. It is currently utilized as a surface parking lot.

• Hudson Site—encompasses six land parcels and is 2.54 acres. The property lies downtown, two blocks south of Bushnell Park. The parcels are separated by Hudson St., with the larger property (2.24 acres) to the west of Hudson St. and the smaller property (0.3 acres) to the east of Hudson St. The larger property is bounded by Capitol Ave. to the north, West St. to the west, and Buckingham St. to the south. It is currently utilized as a surface parking lot and an auto detailing shop. The smaller property is bounded by Buckingham St. to the south and mixed-use buildings along its northern and eastern perimeters. It is currently utilized as a surface parking lot.

Public Involvement and Scoping Meeting

The views and comments of the public are necessary to help determine the scope and content of the environmental analysis. Interested parties are encouraged to participate in the public scoping meeting and provide written comments regarding the scope of the EIS.

There will be a project presentation at 6:00 p.m. with a public comment period to follow. An American Sign language translator and a Spanish language interpreter will be available. After the meeting, GSA will post the following items at the Project website, http://gsa.gov/hartfordcourthouse:

• Meeting handouts in English and Spanish

• Presentation slide deck in English and Spanish

• Meeting transcript in English

• Audio/video of the meeting with closed captions

Further information about the project can be viewed at: http://gsa.gov/hartfordcourthouse.

Surran D. Dilks,
Director, Design & Construction Division, PBS New England Region.

[FR Doc. 2023-11267 Filed 5-25-23; 8:45 am]

BILLING CODE 6820-RB-P